DEPARTMENT OF ENERGY

Federal Energy Regulatory Commission

[Project No. 13877-001]

Mahoning Hydropower, LLC; Notice of Intent To File License Application, Filing of Pre-Application Document, and Approving Use of the Traditional Licensing Process

a. Type of Filing: Notice of Intent to File License Application and Request to Use the Traditional Licensing Process.

b. Project No.: 13877-001.

c. Date Filed: January 2, 2014.

d. Submitted By: Mahoning Hydropower, LLC.

e. Name of Project: Stonewall Jackson Hydroelectric Project.

f. Location: On the West Fork River, in Lewis County, West Virginia.

g. Filed Pursuant to: 18 CFR 5.3 of the Commission's regulations.

h. Potential Applicant Contact: Anthony Marra, 700 E. 73rd Street, Cleveland, OH 44103; (440) 804-6627; email—Anthony@marrainc.com.

i. FERC Contact: Monir Chowdhury at (202) 502-6736; or email at monir.chowdhury@ferc.gov.

j. Mahoning Hydropower, LLC filed its request to use the Traditional Licensing Process on January 2, 2014, and provided public notice of its request on January 3, 2014. In a letter dated March 5, 2014, the Director of the Division of Hydropower Licensing approved Mahoning Hydropower, LLC's request to use the Traditional Licensing Process.

k. With this notice, we are initiating informal consultation with: (a) the U.S. Fish and Wildlife Service under section 7 of the Endangered Species Act and the joint agency regulations thereunder at 50 CFR, Part 402; and (b) the West Virginia State Historic Preservation Officer, as required by section 106, National Historical Preservation Act, and the implementing regulations of the Advisory Council on Historic Preservation at 36 CFR 800.2.

l. Mahoning Hydropower, LLC filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

n. Register online at http://www.ferc.gov/docs-filing/esubscription.asp to be notified via email of new filing and issuances related to this or other pending projects. For assistance, contact FERC Online Support.

Dated: March 5, 2014.
Kimberly D. Bose,
Secretary.

[FR Doc. 2014-05309 Filed 3-11-14; 8:45 am]

BILLING CODE 6717-01-P